DEPARTMENT OF HEALTH AND HUMAN SERVICES

Administration for Children and Families

Office of Community Services: Notice To Award an Expansion Supplement

AGENCY: Office of Community Services (OCS), ACF, HHS.

ACTION: Notice to award an expansion supplement under the American Recovery and Reinvestment Act of 2009 (ARRA) for Training and Technical Assistance (T/TA) by Community Action Partnership (CAP).

CFDA Number: 93.710.

Legislative Authority: The legislative authority for this grant is provided by the American Recovery and Reinvestment Act of 2009 (Pub. L. 111-5). Additional legislative authority and requirements are provided in Sections 674(b)(2)(A) and 678A of the Community Services Block Grant (CSBG) Act, as amended (42 U.S.C. 9903(b)(2)(A) and 9913).

Amount of Award: $250,000.

Project Period: August 15, 2010 through August 14, 2011.

SUMMARY: The Administration for Children and Families (ACF), Office of Community Services (OCS) has awarded an expansion supplement to Community Action Partnership (CAP), located in Washington, DC. The project is designed to support Training and Technical Assistance (T/TA) by strengthening the ability of the Community Action Network to comply with and carry out the programs funded by the American Recovery and Reinvestment Act of 2009 (ARRA). The project objective is to strengthen CSBG-eligible entity administrative governance and financial management efforts related to job creation and new initiatives that target careers in energy efficiency and other environmentally beneficial fields. It will do so by implementing a coordinated strategy that: (1) Promotes exemplary practices applicable to ARRA and “regular” CSBG funds; (2) addresses long-term assistance needs; and (3) collects, develops, and disseminates resources related to job creation and careers related to energy efficiency and environmentally beneficial fields. The project resources developed by CAP will promote accountability and help CSBG-eligible entities and States enhance the overall administration of ARRA-funded programs. These resources include online interactive tutorials, including case studies; guidebooks for CSBG-eligible entity management and board members; online database of exemplary practices, including products and curricula; conference workshops focused on project implementation and facilitated through professional consultations and peer assistance sessions; and online toolkit(s).The T/TA CAP will provide under this award is particularly critical at this time due to the large temporary increase in CSBG funding to CSBG-eligible entities and the need to ensure adherence to high standards of accountability and tracking of the funds and results. The activities funded by this expansion supplement expand upon prior activities provided by CAP under its cooperative agreement. A new grant award number will be issued to allow CAP to track and report separately on expenditures from funds made available by ARRA.

FOR FURTHER INFORMATION CONTACT: Danielle Williams, U.S. Department of Health and Human Services, Office of Community Services, Administration for Children and Families, 370 L'Enfant Promenade, SW., Washington, DC 20047, Telephone: (202) 205-4717,E-mail: Danielle.Williams@acf.hhs.gov.

Dated: August 26, 2010.
Yolanda J. Butler,
Acting Director, Office of Community Services.

[FR Doc. 2010-21983 Filed 9-1-10; 8:45 am]

BILLING CODE 4184-27-P